INTERNATIONAL TRADE COMMISSION

[Investigation No. 337-TA-676]

In the Matter of Certain Lighting Control Devices Including Dimmer Switches and Parts Thereof; Notice of Commission Decision Not To Review an Initial Determination Terminating the Investigation Based on a Consent Order

AGENCY: U.S. International Trade Commission.

ACTION: Notice.

SUMMARY: Notice is hereby given that the U.S. International Trade Commission has determined not to review the presiding administrative law judge's (“ALJ”) initial determination (“ID”) (Order No. 8) granting the joint motion of complainant Lutron Electronics Co., Inc. (“Lutron”) and respondent Universal Smart Electric Corp. (“Universal”) to terminate the investigation based on a consent order.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 11, 2009, based on a complaint filed by Lutron of Coopersburg, Pennsylvania. 74 FR 21820 (May 11, 2009). The complaint alleges violations of section 337 of the Tariff Act of 1930 (19 U.S.C. 1337) in the importation into the United States, the sale for importation, and the sale within the United States after importation of certain lighting control devices including dimmer switches and parts thereof by reason of infringement of United States Patent Nos. 5,637,930 and 5,248,919 as well as U.S. Trademark Registration No. 3,061,804. The complaint named Universal of Irvine, California as the sole respondent.

On July 8, 2009, Universal and Lutron jointly filed a motion pursuant to Commission rule 210.21(c) (19 CFR 210.21(c)) for termination of the investigation based on a consent order. The Commission investigative attorney supported the motion.

On July 14, 2009, the ALJ issued the subject ID granting the joint motion to terminate. The ALJ found that the consent order stipulation submitted with the joint motion complied with the requirements of Commission rule 210.21 (19 CFR 210.21). The ALJ also concluded that there is no evidence that termination of this investigation would be contrary to the public interest. No petitions for review of this ID were filed.

Having examined the record of this investigation, the Commission has determined not to review the ID.

The authority for the Commission's determination is contained in section 337 of the Tariff Act of 1930, as amended (19 U.S.C. 1337), and in section 210.42 of the Commission's Rules of Practice and Procedure (19 CFR 210.42).

Issued: August 4, 2009.
By order of the Commission.
Marilyn R. Abbott,
Secretary to the Commission.

[FR Doc. E9-19021 Filed 8-7-09; 8:45 am]

BILLING CODE 7020-02-P